DEPARTMENT OF STATE

[Public Notice # 3526]

U.S. Advisory Commission on Public Diplomacy; Notice of Meeting

The U.S. Advisory Commission on Public Diplomacy, reauthorized pursuant to P.L. 106-113 (H.R. 3194, Consolidated Appropriations Act, 2000), will meet on Tuesday, February 6, 2001, in Room 600, 301 4th St., SW, Washington, D.C. from 3:30 p.m. to 5:00 p.m.

The Commission will discuss the Smith-Mundt Act, and Public Diplomacy in the new State Department.

Members of the general public may attend the meeting, though attendance of public members will be limited to the seating available. Access to the building is controlled, and individual building passes are required for all attendees. Persons who plan to attend should contact David J. Kramer, Executive Director, at (202) 619-4463.

Dated: January 17, 2001.
David J. Kramer,
Executive Director, U.S. Advisory Commission on Public Diplomacy, U.S. Department of State.

[FR Doc. 01-2036 Filed 1-23-01; 8:45 am]

BILLING CODE 4710-11-P